DEPARTMENT OF LABOR

Employment and Training Administration

[TA-W-83,129]

International Paper Company, Courtland Alabama Paper Mill, Printing & Communications Papers Division, a Subsidiary of International Paper Company, Including On-Site Leased Worker from Manpower, Western Express, and Liberty Healthcare Corporation, Courtland, Alabama; Amended Certification Regarding Eligibility To Apply for Worker Adjustment Assistance

In accordance with Section 223 of the Trade Act of 1974, as amended (“Act”), 19 U.S.C. 2273, the Department of Labor issued an Amended Certification of Eligibility to Apply for Worker Adjustment Assistance on March 13, 2014, applicable to workers of International Paper Company, Courtland Alabama Paper Mill, Printing & Communications Papers Division, a subsidiary of International Paper Company, including on-site leased workers from Manpower and Western Express, Courtland, Alabama. The workers are engaged in activities related to the production of coated and uncoated freesheet paper.

At the request from a Liberty Healthcare Corporation official, the Department reviewed the certification for workers of the subject firm.

Additional information from International Paper Company confirms that workers leased from Liberty Healthcare Corporation were employed on-site at the Courtland, Alabama location of International Paper Company, Courtland Alabama Paper Mill, Printing & Communications Papers Division, a subsidiary of International Paper Company. The Department has determined that these workers were sufficiently under the control of International Paper Company to be considered leased workers.

The intent of the Department's certification is to include all workers of the subject firm who were adversely affected by increased imports of coated and uncoated freesheet paper.

Based on these findings, the Department is amending this certification to include workers leased from Liberty Healthcare Corporation working on-site at the Courtland, Alabama location of the subject firm.

The amended notice applicable to TA-W-83,129 is hereby issued as follows:

All workers from International Paper Company, Alabama Paper Mill, Printing & Communication Papers Division, a subsidiary of International Paper Company, including on-site leased workers from Manpower, Western Express, and Liberty Healthcare Corporation, Courtland, Alabama, who became totally or partially separated from employment on or after October 10, 2012 through February 6, 2016, and all workers in the group threatened with total or partial separation from employment on date of certification through two years from the date of certification, are eligible to apply for adjustment assistance under Chapter 2 of Title II of the Trade Act of 1974, as amended.

Signed at Washington, DC this 8th day of May, 2014.
Del Min Amy Chen,
Certifying Officer, Office of Trade Adjustment Assistance.

[FR Doc. 2014-12053 Filed 5-23-14; 8:45 am]

BILLING CODE 4510-FN-P